DEPARTMENT OF AGRICULTURE

National Agricultural Statistics Service

Notice of Intent To Reinstate a Previously Approved Information Collection

AGENCY: National Agricultural Statistics Service, USDA.

ACTION: Notice and request for comments.

SUMMARY: In accordance with the Paperwork Reduction Act of 1995, this notice announces the intention of the National Agricultural Statistics Service (NASS) to request a reinstatement, with changes, to a previously approved information collection, the Distiller's Grains Survey. Revision to burden hours will be needed due to changes in the size of the target population (expanding from 12 States to 48 States), sampling design, and/or questionnaire length. The title of the information collection has been changed to Distiller's By-products Survey, to encompass both grain and non-grain commodities.

DATES: Comments on this notice must be received by March 28, 2011 to be assured of consideration.

ADDRESSES: You may submit comments, identified by docket number 0535-0247, by any of the following methods:

• E-mail: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue, SW., Washington, DC 20250-2024.

• Hand Delivery/Courier: Hand deliver to: David Hancock, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION:

Title: Distillers By-products Survey.

OMB Control Number: 0535-0247.

Expiration Date of Previous Approval: August 31, 2009.

Type of Request: To reinstate a previous approval for an information collection for a period of three years.

Abstract: The primary objective of the National Agricultural Statistics Service (NASS) is to prepare and issue State and national estimates of crop and livestock production, prices, and disposition as well as economic statistics, farm numbers, land values, on-farm pesticide usage, pest crop management practices, as well as the Census of Agriculture. The goal of this NASS project is to conduct a large-scale survey to measure livestock producers' use of distiller's grains and other crops, which are nutritional by-products of distilling processes, such as ethyl alcohol (ethanol) or biodiesel production.

The Energy Independence and Security Act (EISA) of 2007 established targets for the production of biofuel in the United States. EISA specifies a minimum total amount of U.S. cellulosic and other biofuel production to reach 20 billion gallons by 2022. The Renewable Fuel Standard (RFS) passed as a part of the EISA, sets target levels for fuels produced from specific feedstock categories.

As more ethanol or biofuels are produced, there are also important by-products of the milling and/or fermentation processes: Distillers grains and distillers crops. These distillers by-products contain valuable protein, fiber, vitamins, and minerals and can be utilized as quality livestock feed. Many of the distillers by-products have a higher nutrition ratio than traditional feed stocks. Distillers by-products were traditionally sold to livestock operations in the vicinity of ethanol plants. Recent improvements in the milling and drying process have allowed a large portion of the by-products to be marketed in many new regions of the U.S. Some of these products are being marketed in foreign countries. Marketing of the increasing volume of distillers by-products to more livestock producers would generate additional sales for the distillers, contributing to plant stability and profitability.

Three small-scale studies of distillers grains were conducted in 2003 by the Iowa Department of Agriculture and Land Stewardship in partnership with the USDA/Federal-State Market Improvement Program. A status and assessment survey was conducted for each segment of the industry—ethanol producers, feed companies and marketers, and livestock feeders—to obtain data such as operation profiles, types and quantities of distillers grains, product qualities, volume of sales, pricing, storage facilities, marketing channels, plant services, transportation requirements, species fed, and feed ratios. In its summary report, which was disseminated at conferences and workshops, the Iowa Department of Agriculture and Land Stewardship noted that ethanol plants “must be able to sell their distillers grains, not just dispose of them. * * * It is an excellent product and more livestock feeders must be educated about its benefits and encouraged to make it a vital and substantial part of their feeding rations.” To facilitate the marketing of distillers grains locally, regionally, and globally, the Department concluded that: (1) The nation's livestock feeders must be surveyed and tracked; different surveys should be administered to target feeders in States with the largest concentrations of specific species. (2) Any barriers to usage must be addressed. (3) The customer base must be expanded and the feed usage increased. (4) Distillers by-products promotions and education must be greatly expanded to match the increased levels of distillers by-products being produced.

The survey will contact livestock and poultry operations to determine the extent of feeding of distiller's by-products, and aspects on which producers base their decisions regarding livestock and poultry feed, such as nutrient values, product consistency, product form, product testing, inclusion rates, economics, shelf life, storage, and transportation. The probability-based survey will include beef (cow/calf and feedlot), dairy, swine, and poultry species with targeted size-of-operation criteria. The survey will be conducted in all States except Alaska and Hawaii. The survey reference date for this survey will be the calendar year of 2011. Approximately 70,000 operations will be contacted by mail in early January 2012, with a second mailing to non-respondents. In February and March telephone and personal enumeration will be used for any remaining non-respondents. The National Agricultural Statistics Service plans to publish summaries in September 2012 at the State level when possible for each livestock species. Some State level data may need to be published on regional or national level due to confidentiality rules. Many of the figures will be proportions or percentages which will allow statistical comparisons among operations not feeding distillers grains.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320. NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 20 minutes per response.

Respondents: Farmers and ranchers.

Estimated Annual Number of Respondents: 70,000.

Estimated Total Annual Burden on Respondents: 12,100 hours.

Copies of this information collection and related instructions can be obtained without charge from David Hancock, NASS Clearance Officer, at (202) 690-2388.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, January 6, 2011.
Joseph T. Reilly,
Associate Administrator.

[FR Doc. 2011-1792 Filed 1-26-11; 8:45 am]

BILLING CODE 3410-20-P